DEPARTMENT OF TRANSPORTATION

Federal Highway Administration

Environmental Impact Statement; City of Kokomo, Howard County, Tipton County, IN

AGENCY: Federal Highway Administration (FHWA), DOT.

ACTION: Notice of intent.

SUMMARY: The FHWA is issuing this notice to advise the public that an Environmental Impact Statement will be prepared for highway improvements on U.S. Route 31 corridor in the City of Kokomo, Howard County, and Tipton County, Indiana.

FOR FURTHER INFORMATION CONTACT: Mr. Robert Dirks, Environmental Engineer, Federal Highway Administration, Room 254, Federal Office Building, 575 North Pennsylvania Street, Indianapolis, Indiana 46204, telephone (317) 226-7492, or email robert.dirks@fhwa.dot.gov; or Mr. James Juricic, Manager of the Environmental Assessment Section, Indiana Department of Transportation, Room N848, 100 N. Senate Avenue, Indianapolis, Indiana 46204, telephone (317) 232-5305, or email jjuricic@indot.state.in.us. Please refer to Project Designation Number 0200094 in any correspondence.

SUPPLEMENTARY INFORMATION: The FHWA, in cooperation with the Indiana Department of Transportation (INDOT), will prepare an Environmental Impact Statement (EIS) to identify and evaluate alternatives for improvements to the U.S. Route 31 corridor in the City of Kokomo, Howard County, and the northern end of Tipton County, Indiana. The project's logical termini, or the rational end points for the sufficient review of environmental impacts, are located approximately two miles south of State Road 26 at the southern end of the project and one mile north of U.S. Route 35 at the northern end of the project, a distance of approximately 12 miles. The proposed project is part of the state's effort to provide a Statewide Mobility Corridor between I-465 North Leg in Indianapolis and US 20 in South Bend. Preparation of the EIS follows the completion of the U.S. Route 31 Howard County Major Investment Study (MIS) in May of 1995.

Early Coordination Letters will be distributed with initial project information to the appropriate federal, state, and local agencies. Section 106 Consulting Parties will also be identified and contacted for participation in the project. Following early coordination, the project's purpose and need will be determined and documented based on existing and future traffic congestion, safety, and local and statewide planning.

The range of alternatives under consideration include the no-action alternative; alternatives that use other transportation modes; alternatives that maximize the efficiency of the present transportation system; alternatives that reduce highway capacity needs by reducing travel demand; and different build alternatives that would increase the capacity of U.S. Route 31, including adding lanes to the existing U.S. Route 31 facility; upgrading U.S. Route 31 to a fully access-controlled, multilane highway; and possible relocations of the existing U.S. Route 31 facility. A preliminary alternatives' screening process will be conducted to determine which alternatives will be carried forward for more detailed analysis in the Draft EIS.

The public involvement program for the project will consist of the establishment of a project web site; distribution of three project newsletters; two public meetings; three citizen advisory group meetings, and one public hearing following the distribution of the Draft EIS.

Three interagency review meetings will be held at project milestones in order to provide project information to the appropriate Federal, State, and local agencies and to obtain their input and comments. Meetings and coordination with the Section 106 Consulting Parties will be conducted.

To ensure that the full range of issues related to this proposed action is addressed and all significant issues identified, comments and suggestions are invited from all interested parties. Comments or questions concerning this proposed action and the EIS should be directed to the FHWA at the address provided above.

(Catalog of Federal Domestic Assistance Program Number 20.205 Highway Planning and Construction. The regulations implementing Executive Order 12372 regarding intergovernmental consultation on federal programs and activities apply to this program.)

Issued on: November 1, 2002.
Robert Dirks,
Environmental Engineer, FHWA, Indianapolis, Indiana.

[FR Doc. 02-28406 Filed 11-7-02; 8:45 am]

BILLING CODE 4910-22-M